DEPARTMENT OF COMMERCE

Foreign-Trade Zones Board

[B-30-2013]

Foreign-Trade Zone (FTZ) 225—Springfield, Missouri; Notification of Proposed Production Activity; General Dynamics Ordnance and Tactical Systems Munitions Services (Demilitarization of Munitions); Carthage, Missouri

The City of Springfield Airport Board, grantee of FTZ 225, submitted a notification of proposed production activity to the FTZ Board on behalf of General Dynamics Ordnance and Tactical Systems Munitions Services (GDOTS), located in Carthage, Missouri. The notification conforming to the requirements of the regulations of the FTZ Board (15 CFR 400.22) was received on April 3, 2013.

A separate application for a usage-driven site at the GDOTS facility was submitted and will be processed under Section 400.38 of the Board's regulations. The facility is used for the demilitarization of munitions and other explosive components. Pursuant to 15 CFR 400.14(b), FTZ activity would be limited to the specific foreign-status materials and components and specific finished products described in the submitted notification (as described below) and subsequently authorized by the FTZ Board.

Production under FTZ procedures could allow GDOTS to conduct demilitarization activity on imported articles at the facility. Upon completion of the demilitarization, GDOTS would make customs entry on the following: waste, parings and scrap of polymers and ethylene; articles of plastic; waste and scrap of cast iron, stainless steel, other alloy steel, tinned iron or steel, copper, nickel, aluminum, lead, zinc, tin and tungsten; other waste and scrap; remelting scrap ingots; other articles of iron or steel; and, munitions (duty rate duty-free to 5.3%) for the foreign articles noted below.

The articles sourced from abroad include: bombs, grenades, torpedoes, mines, missiles and other munitions and ammunition (duty-free).

Public comment is invited from interested parties. Submissions shall be addressed to the Board's Executive Secretary at the address below. The closing period for their receipt is May 28, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

April 8, 2013.
Andrew McGilvray,
Executive Secretary.

[FR Doc. 2013-08897 Filed 4-15-13; 8:45 am]

BILLING CODE P